DEPARTMENT OF COMMERCE

National Telecommunications and Information Administration

Informational Briefing on the kids.us Domain

AGENCY: National Telecommunications and Information Administration, Department of Commerce.

ACTION: Notice of public meeting.

SUMMARY: The Commerce Department's National Telecommunications and Information Administration (NTIA) will host an informational briefing regarding the launch of the new kids.us domain.

DATES: Tuesday, July 22, 2003, at 3 p.m.

ADDRESSES: The meeting will take place at the Rayburn House Office Building, Independence Avenue, SW., Room 2123, Washington, DC 20515.

FOR FURTHER INFORMATION CONTACT: Kelly Klegar Levy, Associate Administrator, at (202) 482-1880 or klevy@ntia.doc.gov. All media inquiries should be directed to the Office of Public Affairs, NTIA, at (202) 482-7002.

SUPPLEMENTARY INFORMATION: The Dot Kids Implementation and Efficiency Act of 2002 (Pub. L. 107-317) was passed to create a safe space within the United States country code Internet domain for children under the age of 13. This kids.us space is dedicated to content that is suitable for minors and not harmful to minors. As part of the Act, Congress directed the NTIA to publicize the availability of the new domain. As part of the NTIA's efforts, this meeting will offer information about the domain; instructions about registering a kids.us address; content guidelines and restrictions; and an overview of the content review process. Presenters will include NeuStar, the company implementing and operating the kids.us domain space, and Cyveillance, the company providing content review.

Public Participation: The briefing will be open to the public and press on a first-come, first-served basis. Space is limited. The event is physically accessible to people with disabilities. Any member of the public wishing to attend and requiring special services, such as sign language interpretation or other ancillary aids, should contact Kelly K. Levy, (202) 482-1880, at least two (2) days prior to the hearing.

Dated: July 14, 2003.
Kathy D. Smith,
Chief Counsel, National Telecommunications and Information Administration.

[FR Doc. 03-18107 Filed 7-16-03; 8:45 am]

BILLING CODE 3510-60-P